DEPARTMENT OF AGRICULTURE

Forest Service

Willamette Provincial Advisory Committee (PAC); Meeting

AGENCY: Forest Service, USDA.

ACTION: Action of Meeting.

SUMMARY: The Willamette Province Advisory Committee (PAC) will meet on Thursday, August 17, 2000. The August meeting is a field trip that will originate from the Estacada Ranger District Office, Mt. Hood National Forest; 595 NW Industrial Way; Estacada, Oregon 97023; (503) 630-6861. The field trip will begin at about 9:30 a.m. and will end at about 3 p.m.

The morning will be spent visiting watershed restoration projects on private lands near Estacada. In the afternoon the Committee will visit a project site on the Estacada Ranger District.

Due to the informal nature of this meeting, no Public Forum is scheduled; however, the public is welcome to attend. The public will be responsible for their own transportation. Written comments may be submitted prior to the August 17 meeting by sending them to Designated Federal Official Neal Forrester at the address given below.

FOR FURTHER INFORMATION CONTACT: For more information regarding this meeting, contact Designated Federal Official Neal Forrester; Willamette National Forest; 211 East Seventh Avenue; Eugene, Oregon 97401; (541) 465-6924.

Dated: August 3, 2000.
Suzanne Olson,
Acting Forest Supervisor.

[FR Doc. 00-20084 Filed 8-8-00; 8:45 am]

BILLING CODE 3410-11-M